DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Marshall County, Illinois, and Incorporated Areas
Docket Nos.: FEMA-B-1022 and FEMA-B-1068
Illinois River | Approximately 0.57 mile downstream of Illinois Route 18 | +461 | City of Henry.
| Approximately 0.69 mile upstream of Illinois Route 18 | +461
Illinois River | Approximately 0.73 mile downstream of Illinois Route 17 | +461 | City of Lacon.
| Approximately 0.83 mile upstream of Illinois Route 17 | +461
Sandy Creek Tributary | At County Highway 14 | +673 | Unincorporated Areas of Marshall County.
| Approximately 140 feet northwest of the intersection of Hickory Street and South 5th Street in the City of Wenona | +686
* National Geodetic Vertical Datum.
+ North American Vertical Datum.
# Depth in feet above ground.
‸ Mean Sea Level, rounded to the nearest 0.1 meter.
ADDRESSES
City of Henry
Maps are available for inspection at City Hall, 426 East Park Row, Henry, IL 61537.
City of Lacon
Maps are available for inspection at City Hall, 406 5th Street, Lacon, IL 61540.
Unincorporated Areas of Marshall County
Maps are available for inspection at the Marshall County Courthouse, 122 North Prairie Street, Lacon, IL 61540.
St. John the Baptist Parish, Louisiana, and Incorporated Areas
Docket No.: FEMA-B-1041
Lake Lac Des Alemands | Entire shoreline, extending approximately 6,000 feet landward of the entire lake | +6-7 | Unincorporated Areas of St. John the Baptist Parish.
| From Texas and Pacific Railroad and continuing both east and west to the parish boundary and south to Lake Lac Des Alemands and the southern parish boundary (includes two small areas north of the railroad) | +3-6
Lake Maurepas | Along the shoreline of Lake Maurepas, starting at the parish boundary and continuing along the coastline east to Lake Pontchartrain, extending landward approximately 2,000 feet | +9-12 | Unincorporated Areas of St. John the Baptist Parish.
| An area extending west from I-55 North, following the shoreline of Lake Maurepas to the parish boundary, extending south to approximately U.S. Route 61 | +3-13
Lake Pontchartrain | An area extending east from I-55 North to the western coast of Lake Pontchartrain, extending north from I-10 to the parish boundary along I-55 North | +10-13 | Unincorporated Areas of St. John the Baptist Parish.
| Along the shoreline of Lake Pontchartrain, from the northern peninsula south to I-10, extending landward approximately 6,000 feet | +12-17
* National Geodetic Vertical Datum.
+ North American Vertical Datum.
# Depth in feet above ground.
‸ Mean Sea Level, rounded to the nearest 0.1 meter.
ADDRESSES
Unincorporated Areas of St. John the Baptist Parish
Maps are available for inspection at 1801 West Airline Highway, La Place, LA 70068.
St. Martin Parish, Louisiana, and Incorporated Areas
Docket No.: FEMA-B-1040
Bayou Peyronnet | Approximately 2.08 miles upstream of the confluence with Bayou Berard | +13 | Unincorporated Areas of St. Martin Parish.
| Approximately 2.27 miles upstream of the confluence with Bayou Berard | +13
Bayou Teche | Approximately 1,900 feet upstream of Smede Highway | +15 | Unincorporated Areas of St. Martin Parish.
| Approximately 2.08 miles upstream of Bridge Street | +21
WABPL Borrow Pit (below Henderson) | Approximately 2,500 feet upstream of the confluence with Berard Canal | +12 | Unincorporated Areas of St. Martin Parish.
| Approximately 4,500 feet upstream of the confluence with Berard Canal | +12
WABPL Borrow Pit (above Henderson) | Approximately 1,000 feet downstream of Potato Shed Road | +16 | Unincorporated Areas of St. Martin Parish.
| Approximately 1.25 mile upstream of Potato Shed Road | +17
* National Geodetic Vertical Datum.
+ North American Vertical Datum.
# Depth in feet above ground.
‸ Mean Sea Level, rounded to the nearest 0.1 meter.
ADDRESSES
Unincorporated Areas of St. Martin Parish
Maps are available for inspection at 303 West Port Street, St. Martinsville, LA 70582.
Colfax County, New Mexico, and Incorporated Areas
Docket No.: FEMA-B-1065
Ranton Creek | Approximately 450 feet downstream of Kiowa Avenue | +6541 | Unincorporated Areas of Colfax County.
| Approximately 150 feet downstream of Kiowa Avenue | +6547
* National Geodetic Vertical Datum.
+ North American Vertical Datum.
# Depth in feet above ground.
‸ Mean Sea Level, rounded to the nearest 0.1 meter.
ADDRESSES
Unincorporated Areas of Colfax County
Maps are available for inspection at the Colfax County Floodplain Manager's Office, 116 South 3rd Street, Raton, NM 87740.
Atascosa County, Texas, and Incorporated Areas
Docket No.: FEMA-B-1074
Rutledge Hollow Creek | Just upstream of Roys Drive | +440 | Unincorporated Areas of Atascosa County.
| Approximately 500 feet upstream of Roys Drive | +442
* National Geodetic Vertical Datum.
+ North American Vertical Datum.
# Depth in feet above ground.
‸ Mean Sea Level, rounded to the nearest 0.1 meter.
ADDRESSES
Unincorporated Areas of Atascosa County
Maps are available for inspection at Circle Drive 41, Jourdanton, TX 78026.
Uvalde County, Texas, and Incorporated Areas
Docket No.: FEMA-B-1066
Cooks Slough | From Cooks Slough to just upstream of U.S. Route 83 | +893 | Unincorporated Areas of Uvalde County.
| From Cooks Slough to approximately 0.7 mile upstream of U.S. Route 83 | +895
* National Geodetic Vertical Datum.
+ North American Vertical Datum.
# Depth in feet above ground.
‸ Mean Sea Level, rounded to the nearest 0.1 meter.
ADDRESSES
Unincorporated Areas of Uvalde County
Maps are available for inspection at 100 North Getty Street, Uvalde, TX 78801.

(Catalog of Federal Domestic Assistance No. 97.022, “Flood Insurance.”)

Dated: September 17, 2010.
Sandra K. Knight,
Deputy Federal Insurance and Mitigation Administrator, Mitigation, Department of Homeland Security, Federal Emergency Management Agency.

[FR Doc. 2010-24867 Filed 10-4-10; 8:45 am]

BILLING CODE 9110-12-P